DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with the responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on April 1, 2014, through April 31, 2014. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Vaccine Injury Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: May 21, 2014.
Mary K. Wakefield,
Administrator.

List of Petitions Filed

1. Rene Dumas, Washington, District of Columbia, Court of Federal Claims No: 14-0256V

2. Theodore and Jodi Orm on behalf of A.S.O., Grand Haven, Michigan, Court of Federal Claims No: 14-0257V

3. Lauren Natalie Lee, Littleton, Colorado, Court of Federal Claims No: 14-0258V

4. Monica R. Beason, Pittsburg, Kansas, Court of Federal Claims No: 14-0262V

5. Stacie Rublein, Farmington Hills, Michigan, Court of Federal Claims No: 14-0264V

6. Matthew J. Lenihan, Council Bluffs, Iowa, Court of Federal Claims No: 14-0265V

7. Wilbert L. Townsend, Sr., Las Vegas, Nevada, Court of Federal Claims No: 14-0266V

8. Carlos Lopez and Sylvia Medina on behalf of Cedric Carlos Lopez, Dallas, Texas, Court of Federal Claims No: 14-0270V

9. Joseph and Angela Quance on behalf of E. J. Q., Marshfield, Wisconsin, Court of Federal Claims No: 14-0271V

10. Paxton and Dee King on behalf of F. M. K., Baraboo, Wisconsin, Court of Federal Claims No: 14-0272V

11. Vijay Divakar, Chandler, Arizona, Court of Federal Claims No: 14-0273V

12. Wynette Arias, Chalmette, Louisiana, Court of Federal Claims No: 14-0274V

13. Jeff and Cynthia Davis on behalf of Paige Davis, Spring, Texas, Court of Federal Claims No: 14-0276V

14. Melanie Yalacki, Lakewood, Colorado, Court of Federal Claims No: 14-0278V

15. Susie Avchen, Boston, Massachusetts, Court of Federal Claims No: 14-0279V

16. Sarah Meyers, Lewiston, Maine, Court of Federal Claims No: 14-0281V

17. Cheri Srour, Brooklyn, New York, Court of Federal Claims No: 14-0283V

18. Ofelia Winters, Gaithersburg, Maryland, Court of Federal Claims No: 14-0285V

19. Sarah Dearing, Washington, District of Columbia, Court of Federal Claims No: 14-0289V

20. Julio Paz and Olga Paz on behalf of J. P., Deceased, Boston, Massachusetts, Court of Federal Claims No: 14-0290V

21. Amy Lea on behalf of Michael Lea, Deceased, Fayetteville, Arkansas, Court of Federal Claims No: 14-0291V

22. Emily Thompson, Germantown, Tennessee, Court of Federal Claims No: 14-0292V

23. Ruby J. Williams, Morgantown, West Virginia, Court of Federal Claims No: 14-0293V

24. Jennifer Pryde, Baltimore, Maryland, Court of Federal Claims No: 14-0298V

25. Alexander Katsaros, Naples, Florida, Court of Federal Claims No: 14-0302V

26. James Pike, Tequesta, Florida, Court of Federal Claims No: 14-0303V

27. Sheila Foster on behalf of A. F., Brandenburg, Kentucky, Court of Federal Claims No: 14-0309V

28. Linette Breland on behalf of C.B., New York, New York, Court of Federal Claims No: 14-0312V

29. Emily Culligan, Baraboo, Wisconsin, Court of Federal Claims No: 14-0318V

30. Markus Heinze and Candace Heinze on behalf of J.H., Crestview Hills, Kentucky, Court of Federal Claims No: 14-0319V

31. Ashley and Craig Rice on behalf of Rowan Rice, Charleston, South Carolina, Court of Federal Claims No: 14-0321

32. Berenice Dorris, Beverly Hills, California, Court of Federal Claims No: 14-0322V

33. Loretta Zimmerman, Fountain Valley, California, Court of Federal Claims No: 14-0323V

34. Jeanette Parrish on behalf of Armandina Parrish, Deceased, Houston, Texas, Court of Federal Claims No: 14-0324V

35. Rita Martin, Riverside, California, Court of Federal Claims No: 14-0325V

36. Elena Ford, Washington, District of Columbia, Court of Federal Claims No: 14-0327V

37. Myroslawa Yangis, Piermont, New York, Court of Federal Claims No: 14-0328V

38. Barbara Sweat on behalf of Shaniya Sweat, Tampa, Florida, Court of Federal Claims No: 14-0329V

39. Janet Moody, Dallas, Texas, Court of Federal Claims No: 14-0336V

40. Arlene deRego, Marlborough, Massachusetts, Court of Federal Claims No: 14-0337V

41. Samantha Jenney, New Bedford, Massachusetts, Court of Federal Claims No: 14-0338V

42. Susan Harrison, Boston, Massachusetts, Court of Federal Claims No: 14-0339V

43. Crystal La Veck and Mark Osterhoudt on behalf of B.O., Boston, Massachusetts, Court of Federal Claims No: 14-0340V

44. Kenneth Baron and Jayme Baron on behalf of S. B., Boston, Massachusetts, Court of Federal Claims No: 14-0341V

45. Cassie Wolf and Richard Wolf on behalf of Richard Wolf, II, Cincinnati, Ohio, Court of Federal Claims No: 14-0342V

46. Marilyn Erickson, Spring, Texas, Court of Federal Claims No: 14-0351V

47. Jonathan Mason, Mayfield, Kentucky, Court of Federal Claims No: 14-0356V

48. Candice Lewis and Kevin Neal on behalf of K. M. N., St. Louis, Missouri, Court of Federal Claims No: 14-0357V

49. Judy Becker, Endwell, New York, Court of Federal Claims No: 14-0363V

50. Yolanda Rosebraugh on behalf of Noah Rosebraugh, Santa Cruz, California, Court of Federal Claims No: 14-0364V

51. Cathy Erdmann, Baraboo, Wisconsin, Court of Federal Claims No: 14-0365V

52. Martha Mascia-Strickler, Sarasota, Florida, Court of Federal Claims No: 14-0368

53. Stephanie Astle on behalf of M. A., Vienna, Virginia, Court of Federal Claims No: 14-0369V

54. Debra Bub, Vienna, Virginia, Court of Federal Claims No: 14-0370V

[FR Doc. 2014-12325 Filed 5-27-14; 8:45 am]

BILLING CODE 4165-15-P